DEPARTMENT OF DEFENSE

Office of the Secretary

Notice of Intent To Expand Implementation of the TRICARE® Program in Alaska

AGENCY: Office of the Assistant Secretary of Defense for Health Affairs, DoD.

ACTION: Notice.

SUMMARY: The Office of the Assistant Secretary of Defense for Health Affairs announces the intent to expand implementation of the TRICARE Program in Alaska. The expansion will require the Managed Care Support Contractor to develop and operate a TRICARE civilian preferred provider network under 32 CFR 199.17(p) within the Anchorage Prime Service Area of Alaska. Eligible TRICARE beneficiaries will be permitted to enroll in Prime with assignment to Military Treatment Facility (MTF) Primary Care Managers (PCMs) consistent with established priorities provided in 32 CFR 199.17(c) or assignment to a PCM within the TRICARE civilian preferred provider network. The initial expansion included the Prime Service Areas around Fort Wainwright and Eielson Air Force Base.

Under 32 Code of Federal Regulations (CFR) 199.1(b), the Director had previously limited the program in Alaska. Subsequently through the notice of November 3, 2010, http://www.access.gpo.gov/su_docs/fedreg/a101103c.html, the limitation was partially revoked, and now the Director is revoking another part of the prior limitation in Alaska and intends to provide the benefit under 32 CFR 199.17 (p).

FOR FURTHER INFORMATION CONTACT: LTC Stephen Oates, TRICARE Policy and Operations Directorate, TRICARE Management Activity, 5111 Leesburg Pike, Suite 810, Falls Church, VA 22041, telephone (703) 681-8711.

Dated: December 21, 2011.
Aaron Siegel,
Alternate OSD Federal Register Liaison Officer, Department of Defense.

[FR Doc. 2011-33067 Filed 12-23-11; 8:45 am]

BILLING CODE 5001-06-P